DEPARTMENT OF COMMERCE

Foreign-Trade Zones Board

[S-173-2024]

Approval of Subzone Status; Canoo Inc., Pryor, Oklahoma

On October 1, 2024, the Executive Secretary of the Foreign-Trade Zones (FTZ) Board docketed an application submitted by the Rural Enterprises of Oklahoma, Inc., grantee of FTZ 227, requesting subzone status subject to the existing activation limit of FTZ 227, on behalf of Canoo Inc., in Pryor, Oklahoma.

The application was processed in accordance with the FTZ Act and Regulations, including notice in the Federal Register inviting public comment (89 FR 80856, October 4, 2024). The FTZ staff examiner reviewed the application and determined that it meets the criteria for approval.

Pursuant to the authority delegated to the FTZ Board Executive Secretary (15 CFR 400.36(f)), the application to establish Subzone 227B was approved on December 2, 2024, subject to the FTZ Act and the Board's regulations, including section 400.13, and further subject to FTZ 227's 2,000-acre activation limit.

Dated: December 2, 2024.
Elizabeth Whiteman,
Executive Secretary.

[FR Doc. 2024-28472 Filed 12-4-24; 8:45 am]

BILLING CODE 3510-DS-P